DEPARTMENT OF ENERGY

Federal Amendment of License and Soliciting Comments, Motions to Intervene, and Protests

September 13, 2000.

Take notice that the following application has been filed with the Commission and is available for public inspection.

(a) Type of Application: Amendment of license for the non-project use of project lands and waters: the construction and operation of a water intake and a portion of planned raw water pumping facilities on 0.2 acres of project lands, and the withdrawal of up to 28 million gallons per day (GPD) from Blewett Falls Lake.

b. Project No: 2206-014.

c. Date Filed: August 31, 2000.

d. Applicant: Carolina Power and Light Company.

e. Name of Project: Yadkin-Pee Dee River Project.

f. Location: Near Blewett Dam in Richmond County, North Carolina.

g. Filed Pursuant to: Federal Power Act, 16 U.S.C. 791(a)-825(r).

h. Applicant Contact: Mr. Larry Mann, Carolina Power and Light Company, PO Box 1551, 411 Fayetteville Street Mall, Raleigh, NC 27602, (919) 546-6889.

i. FERC Contact: Any questions on this notice should be addressed to Jim Haimes at (202) 219-2780, or e-mail address: james.haimes@ferc.fed.us.

j. Deadline for filing comments and or motions: 30 days from the issuance date of this notice.

All documents (original and eight copies) should be filed with: David P. Boergers, Secretary, Federal Energy Regulatory Commission, 888 First Street, NE, Washington, DC 20426. Please include the project number (P-2206-014) on any comments or motions filed.

k. Description of Project: Carolina Power and Light Company (applicant) requests Commission authorization to grant an easement to Richmond County, North Carolina, for (1) the construction and operation of a water intake and a portion of planned raw water pumping facilities on 0.212 acres of project lands; and (2) the withdrawal of up to 28 million gallons per day (MGD) from Blewett Falls Lake for municipal water supply.

l. Locations of the application: Copies of the application are available for inspection and reproduction at the Commission's Public Reference Room, located at 888 First Street, NE, Room 2A, Washington, DC 20426, or by calling (202) 208-1371. The application also may be viewed on the Web at www.ferc.fed.us/online/rims.htm. Call (202) 208-2222 for assistance. Copies of the application also are available for inspection and reproduction at the addresses in item h, above.

m. Individuals desiring to be included on the Commission's mailing list for the proposed amendment of license should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for this notice.

o. Filing and Service of Responsive Documents—Any filing must bear in all capital letters the title “COMMENTS”, “RECOMMENDATIONS FOR TERMS AND CONDITIONS”, “PROTESTS”, OR “MOTION TO INTERVENE”, as applicable, and the Project Number of the subject application, No. 2206-014. A copy of any motion to intervene must also be served upon Applicant's representative specified in item h, above.

p. Agency Comments—Federal, state, and local agencies are invited to file comments on the described application. A copy of the application may be obtained by agencies directly from the Applicant. If any agency does not file comments within the time specified for filing comments, it will be presumed to have no comments. One copy of an agency's comments must also be sent to the Applicant's representative.

Linwood A. Watson, Jr.,
Acting Secretary.

[FR Doc. 00-23979 Filed 9-18-00; 8:45 am]

BILLING CODE 6717-01-M